Proclamation 9201 of October 31, 2014

National Adoption Month, 2014

By the President of the United States of America

A Proclamation

Every year, adoptive parents welcome tens of thousands of children and teenagers into supportive and loving families. These mothers and fathers provide their sons and daughters with the security and stability of a safe environment and the opportunity to learn, grow, and achieve their full potential. During National Adoption Month, we honor those who have opened their hearts and their homes, and we recommit to supporting all children still in need of a place to call their own.

Over the past decade, more than 500,000 children have been adopted. However, there are still too many children waiting to be part of an adoptive family. This month—on the Saturday before Thanksgiving—we will observe the 15th annual National Adoption Day, a nationwide celebration that brings together policymakers, practitioners, and advocates to finalize thousands of adoptions and to raise awareness of those still in need of permanent homes.

To help ensure there is a permanent home for every child, my Administration is investing in programs to reduce the amount of time children in foster care wait for adoption and to educate adoptive families about the diverse needs of their children, helping ensure stability and permanency. We are equipping State and local adoption organizations with tools to provide quality mental health services to children who need them, and—because we know the importance of sibling relationships—we are encouraging efforts to keep brothers and sisters together. Additionally, last year I was proud to permanently extend the Adoption Tax Credit to provide relief to adoptive families. By supporting policies that remove barriers to adoption, we give hope to children across America. For all those who yearn for the comfort of family, we must continue our work to increase the opportunities for adoption and make sure all capable and loving caregivers have the ability to bring a child into their life, regardless of their race, religion, sexual orientation, or marital status.

Throughout November, we recognize the thousands of parents and kids who have expanded their families to welcome a new child or sibling, as well as the professionals who offer guidance, resources, and counseling every day. Let us reaffirm our commitment to provide all children with every chance to reach their dreams and realize their highest aspirations.

NOW, THEREFORE, I, BARACK OBAMA, President of the United States of America, by virtue of the authority vested in me by the Constitution and the laws of the United States, do hereby proclaim November 2014 as National Adoption Month. I encourage all Americans to observe this month by answering the call to find a permanent and caring family for every child in need, and by supporting the families who care for them.

IN WITNESS WHEREOF, I have hereunto set my hand this thirty-first day of October, in the year of our Lord two thousand fourteen, and of the Independence of the United States of America the two hundred and thirty-ninth.

[FR Doc. 2014-26480

Filed 11-4-14; 11:15 am]

Billing code 3295-F5